FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011654-018.

Title: The Middle East Indian Subcontinent Discussion Agreement.

Parties: A.P. Moller-Maersk A/S; CMA CGM S.A.; Emirates Shipping Line FZE; Hapag-Lloyd AG; National Shipping Company of Saudi Arabia; Shipping Corporation of India Ltd.; Swire Shipping Limited; United Arab Shipping Company (S.A.G.); and Zim Integrated Shipping Services, Ltd.

Filing Party: Wayne R. Rohde, Esq.; Sher & Blackwell LLP; 1850 M Street, NW.; Suite 900; Washington, DC 20036.

Synopsis: The amendment deletes MacAndrews & Company Limited as a party to the agreement.

Agreement No.: 201062-002.

Title: Lease and Operating Agreement between PRPA and Penn City Investments, Inc..

Parties: Penn City Investments, Inc.; and Philadelphia Regional Port Authority.

Filing Party: Paul D. Coleman, Esq.; Hoppel, Mayer & Coleman; 1000 Connecticut Avenue, NW.; Washington, DC 20036.

Synopsis: The amendment expands the leased area and settles a disputed rent.

Dated: November 16, 2007.
By Order of the Federal Maritime Commission.
Karen V. Gregory,
Assistant Secretary.

[FR Doc. E7-22775 Filed 11-20-07; 8:45 am]

BILLING CODE 6730-01-P